INTERNATIONAL TRADE COMMISSION

[Investigation No. 332-600]

USMCA Automotive Rules of Origin: Economic Impact and Operation, 2025 Report; Submission of Questionnaire and Information Collection Plan for Office of Management and Budget Review

AGENCY: U.S. International Trade Commission.

ACTION: Notice of submission of request for approval of a questionnaire and information collection to the Office of Management and Budget.

SUMMARY: The information requested by the questionnaire is for use by the Commission in connection with Investigation No. 332-600, USMCA Automotive Rules of Origin: Economic Impact and Operation, 2025 Report.

ADDRESSES: All Commission offices are located in the U.S. International Trade Commission Building, 500 E Street SW, Washington, DC. Persons with mobility impairments who will need special assistance in gaining access to the Commission should contact the Office of the Secretary at 202-205-2000.

FOR FURTHER INFORMATION CONTACT: Please direct all questions and comments about this investigation to the project team via email at USMCAAutoROO@usitc.gov or via phone to Aaron Woodward at 202-205-2663. The Commission is not accepting paper correspondence for this investigation.

Comments about the proposal should be provided to the Office of Management and Budget (OMB), Office of Information and Regulatory Affairs, through the Information Collection Review Dashboard at https://www.reginfo.gov. All comments should be specific, indicating whether any part of the questionnaire is objectionable, describing the concern in detail, and including specific suggested revisions or language changes. Copies of any comments should be provided electronically to the Commission's project team via email to USMCAAutoROO@usitc.gov.

The public record for this investigation is viewable on the Commission's electronic docket (EDIS) at https://edis.usitc.gov. General information concerning the Commission is available on its website (https://www.usitc.gov). Hearing-impaired individuals can obtain information on this matter by contacting the TDD terminal at 202-205-1810.

SUPPLEMENTARY INFORMATION: The information requested by the questionnaire is for use by the Commission in connection with Investigation No. 332-600, USMCA Automotive Rules of Origin: Economic Impact and Operation, 2025 Report, instituted under section 202A(g)(2) of the United States-Mexico-Canada Agreement Implementation Act (19 U.S.C. 4532(g)(2)) (USMCA Implementation Act). The USMCA Implementation Act requires that the Commission prepare a series of five biennial reports on the USMCA automotive rules of origin (ROOs) and their impact on the U.S. economy and automotive industry, effect on U.S. competitiveness, and relevancy in light of technological changes, and to submit these reports to the President, the House Committee on Ways and Means, and the Senate Committee on Finance. The Commission delivered the first of the reports on June 30, 2023, with four more reports due in 2025, 2027, 2029, and 2031.

This investigation was instituted on November 15, 2023, and the notice of investigation was published in the Federal Register on November 21, 2023 (88 FR 81100). The Commission will submit the second of its five reports to the President, the House Committee on Ways and Means, and the Senate Committee on Finance by July 1, 2025. The Commission indicated in its notice of investigation that it intended to obtain data and information through a survey. The survey will assist the Commission in gathering responses and data from motor vehicle producers in the United States to determine the direct impacts of the ROOs on the aforementioned factors. Such data are not publicly available, and without this information collection, certain aspects of the Commission's analysis of the impact of the ROOs will be less robust in, or absent from, its report.

The Commission intends to submit the following draft information collection plan to the OMB:

(1) Number of forms submitted: 1.

(2) Title of form: The USMCA Automotive Rules of Origin Motor Vehicle Producer Questionnaire.

(3) Type of request: New.

(4) Frequency of use: Industry questionnaire, single data gathering, scheduled for 2024.

(5) Description of respondents: North American motor vehicle producers with U.S. production operations.

(6) Estimated number of questionnaire requests to be emailed: 30.

(7) Estimated total number of hours to complete the questionnaire per respondent: 40 hours.

(8) Information obtained from the questionnaire that qualifies as confidential business information will be so treated by the Commission and not disclosed in a manner that would reveal the individual operations of a business.

Information about the investigation and other supplementary documents can be accessed on the USITC website at https://www.usitc.gov/USMCAAutoROO.

By order of the Commission.
Issued: May 16, 2024.
Lisa Barton,
Secretary to the Commission.

[FR Doc. 2024-11184 Filed 5-21-24; 8:45 am]

BILLING CODE 7020-02-P